DEPARTMENT OF COMMERCE

International Trade Administration

[A-570-874]

Notice of Amended Preliminary Determination of Sales at Less Than Fair Value: Certain Ball Bearings and Parts Thereof From the People's Republic of China

AGENCY: Import Administration, International Trade Administration, Department of Commerce.

ACTION: Notice of Amended Preliminary Determination.

EFFECTIVE DATE: November 20, 2002.

FOR FURTHER INFORMATION CONTACT: James Terpstra or Cindy Lai Robinson, AD/CVD Enforcement, Office 6, Group II, Import Administration, International Trade Administration, US Department of Commerce, 14th Street and Constitution Avenue, NW., Washington, DC 20230; telephone:(202) 482-3965 and (202) 482-3797, respectively.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations are to the provisions codified at 19 CFR part 351 (2001).

Significant Ministerial Errors

The Department is amending the preliminary determination of sales at less than fair value in the antidumping duty investigation of certain ball bearings and parts thereof from the People's Republic of China (PRC) to reflect the correction of several ministerial errors made in that determination's margin calculations, pursuant to 19 CFR 341.224(g)(1) and (g)(2).

A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g). In this case, correction of the ministerial errors results in a change in the margin considered significant within the meaning of 19 CFR 351.224(g)(1). We are publishing this amendment to the preliminary determination pursuant to 19 CFR 351.224(e). As a result of this amended preliminary determination, we have revised the antidumping rates for two of the respondents and the weight-averaged rate applied to the cooperative exporters who were not selected as mandatory respondents.¹

¹ Specifically, the amended rate for Ningbo Cixing Group Corp. (“Cixing”) is now 2.32, changed from 32.69 in our Preliminary Determination; the amended rate for Wanxiang Group Corporation (“Wanxiang”) is 2.50, changed from 39.93; and the amended weighted-average rate is 2.41, changed from 22.99. The revised rate for Xinchang Peer Bearing Company Ltd. (“Peer”) is 7.11, compared with 2.39; however, the overall effect on the weighted-average dumping margin is not significant and therefore does not warrant amendment of the Preliminary Determination with respect to Peer. Moreover, because we are not amending Peer's margin at this time, we have not included Peer's revised dumping margin in the re-calculated weighted-average dumping margin for the cooperative exporters who were not selected as mandatory respondents; rather, we used Peer's original Preliminary Determination margin.

Scope of Investigation

For purposes of this investigation, the products covered are ball bearings and parts thereof. For a comprehensive description of the scope of this investigation, please see the preliminary determination in this proceeding. See Notice of Preliminary Determination of Sales at Less Than Fair Value and Postponement of Final Determination: Certain Ball Bearings and Parts Thereof From the People's Republic of China, 67 FR 63609 (October 15, 2002) (Preliminary Determination).

Ministerial-Errors Allegation

On October 15, 2002, the Department published its preliminary determination in this proceeding. See Preliminary Determination. On October 15, 2002, the Department received timely allegations of ministerial errors in the Preliminary Determination, in accordance with section 351.224(c)(2) of the Department's regulations, from the petitioner, a domestic producer/interested party, and each of the three mandatory respondents.

The Department has reviewed the preliminary calculations, and, while disagreeing with several of the allegations, agrees that there are errors in the Preliminary Determination that constitute ministerial errors within the meaning of 19 CFR 351.224(f). Furthermore, we determine that the change in Wanxiang and Cixing's margins, as well as the change in the rate applied to the un-investigated cooperative exporters, resulting from the correction of these errors, is significant pursuant to 19 CFR 351.224(g)(1). We are amending the Preliminary Determination to reflect the correction of these ministerial errors pursuant to 19 CFR 351.224(e). For a detailed discussion of specific ministerial error allegations and Department responses see Memorandum From Melissa Skinner to Bernard Carreau: Ministerial Error Memorandum dated November 13, 2002, on file in the Central Records Unit (CRU), room B-099 of the main Commerce building.

The collection of bonds or cash deposits and suspension of liquidation will be revised accordingly and parties will be notified of this determination, in accordance with sections 733(d) and (f) of the Act.

Amended Preliminary Determination

As a result of our correction of the ministerial errors, we have determined that the following dumping margins apply. In accordance with section 733(d)(2) of the Act, we are directing the Customs Service to continue to suspend liquidation of all imports of subject merchandise that are entered, or withdrawn from warehouse, for consumption on or after the date of publication of this notice in the Federal Register. We will instruct the Customs Service to require a cash deposit or the posting of a bond equal to the weighted-average amounts as indicated in the chart below. These suspension-of-liquidation instructions will remain in effect until further notice. The percentage weighted-average dumping margins are as follows:

Manufacturer/exporter | Weighted-Average Margin (percent)
Xinchang Peer Bearing Company Ltd. | 2.39
Wanxiang Group Corporation | 2.50
Ningbo Cixing Group Corp and CW Bearings USA, Inc. | 2.32
B&R Bearing Co. | 2.41
Changshan Import & Export Company, Ltd. | 2.41
Changzhou Daya Import and Export Corporation Limited | 2.41
China Huanchi Bearing Group Corp. AND Ningbo Huanchi Import & Export Co. Ltd. | 2.41
China National Automotive Industry Guizhou Import & Export Corp. | 2.41
China National Machinery & Equipment Import & Export Wuxi Co., Ltd. | 2.41
Chongqing Changjiang Bearing Industrial Corporation | 2.41
CSC Bearing Company Limited | 2.41
Dongguan TR Bearing Corporation, Ltd. | 2.41
Fujian Nanan Fushan Hardware Machinery Electric Co., Ltd. | 2.41
Guangdong Agricultural Machinery Import & Export Company | 2.41
Harbin Bearing Group AND Heilongjiang Machinery and Equipment Import and Export Corporation | 2.41
Jiangsu CTD Imports & Exports Co., Ltd. | 2.41
Jiangsu General Ball & Roller Co., Ltd. | 2.41
Jiangsu Hongye Intl. Group Industrial Development Co., Ltd. | 2.41
Jinrun Group Ltd. Haining | 2.41
Ningbo Cixi Import Export Co. | 2.41
Ningbo Economic and Technological Development Zone AND Tiansheng Bearing Co. Ltd AND TSB Group USA Inc. AND TSB Bearing Group America, Co. (TSB Group) | 2.41
Ningbo General Bearing Co., Ltd. | 2.41
Ningbo Jinpeng Bearing Co., Ltd. AND Ningbo Mikasa Bearing Co. Ltd. AND Ningbo Cizhuang Bearing Co. Tahsleh Development Zone | 2.41
Ningbo MOS Group Corporation, Ltd. | 2.41
Norin Optech Co., Ltd. | 2.41
Premier Bearing & Equipment, Ltd. | 2.41
Sapporo Precision Inc./Shanghai Precision Bearing Co., Ltd. | 2.41
Shaanxi Machinery & Equipment Import & Export Corp. | 2.41
Shandong Machinery Import & Export Group Corp. | 2.41
Shanghai Bearing (Group) Company Limited | 2.41
Shanghai Foreign Service and Economic Cooperation Co. Ltd. | 2.41
Shanghai General Pudong Bearing Co., Ltd. | 2.41
Shanghai Hydraulics & Pneumatics Corp. | 2.41
Shanghai Nanshi Foreign Economic Cooperation & Trading Co., Ltd. | 2.41
Shanghai SNZ Bearings Co., Ltd. | 2.41
Shanghai Zhong Ding I/E Trading Co., Ltd. AND Shanghai Li Chen Bearings | 2.41
Shaoguan Southeast Bearing Co. Ltd. | 2.41
Sin NanHwa Bearings Co. Ltd. AND Sin NanHwa Co. Ltd. | 2.41
TC Bearing Manufacturing Co. Ltd. | 2.41
Wafangdian Bearing Company Ltd. | 2.41
Wholelucks Industrial Limited | 2.41
Wuxi New-way Machinery Co., Ltd. | 2.41
Zhejiang Rolling Bearing Co. Ltd. | 2.41
Zhejiang Shenlong Bearing Co. Ltd. | 2.41
Zhejiang Wanbang Industrial Co., Ltd. | 2.41
Zhejiang Xinchang Xinzhou Industrial Co. Ltd. | 2.41
Zhejiang Xinchun Bearing Co. Ltd. | 2.41
Zhejiang ZITIC Import & Export Co. Ltd. | 2.41
PRC-Wide Rate | 59.30

International Trade Commission Notification

In accordance with section 733(f) of the Act, we have notified the ITC of our amended preliminary determination. If our final determination is affirmative, the ITC will determine before the later of 120 days after the date of the preliminary determination or 45 days after our final determination whether these imports are materially injuring, or threaten material injury to, the US industry.

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Section 774 of the Act provides that the Department will hold a public hearing to afford interested parties an opportunity to comment on arguments raised in case or rebuttal briefs, provided that such a hearing is requested by an interested party. If a request for a hearing is made in this investigation, the hearing will tentatively be held two days after the rebuttal-brief deadline date at the US Department of Commerce, 14th Street and Constitution Avenue, NW., Washington, DC 20230.

Interested parties who wish to request a hearing, or to participate if one is requested, must submit a written request to the Assistant Secretary for Import Administration, US Department of Commerce, Room 1870, within 30 days of the publication of this notice. Requests should contain: (1) The party's name, address, and telephone number; (2) the number of participants; and (3) a list of the issues to be discussed. Oral presentations will be limited to issues raised in the briefs.

We will make our final determination no later than February 26, 2003.

This determination is issued and published in accordance with sections 733(f) and 777(i)(1) of the Act.

Dated: November 13, 2002.
Richard W. Moreland,
Acting Assistant Secretary for Import Administration.

[FR Doc. 02-29496 Filed 11-19-02; 8:45 am]

BILLING CODE 3510-DS-S